DEPARTMENT OF ENERGY

Federal Energy Regulatory Commission

[Docket No. RP04-359-000]

Texas Eastern Transmission, LP; Notice of Proposed Changes in FERC Gas Tariff

July 8, 2004.

Take notice that on June 30, 2004, Texas Eastern Transmission, LP (Texas Eastern) tendered for filing as part of its FERC Gas Tariff, Seventh Revised Volume No. 1, and First Revised Volume No. 2, revised tariff sheets listed on Appendix B to the filing to become effective August 1, 2004.

Texas Eastern states that these revised tariff sheets are filed pursuant to Section 15.1, Electric Power Cost (EPC) Adjustment, of the General Terms and Conditions of Texas Eastern's FERC Gas Tariff, Seventh Revised Volume No. 1. Texas Eastern states that Section 15.1 provides that Texas Eastern shall file, to be effective each August 1, revised rates for each applicable zone and rate schedule based upon the projected annual electric power costs required for the operation of transmission compressor stations with electric motor prime movers. Texas Eastern states that all costs of electric power compression required for the incremental services under the TIME and Freehold Projects are appropriately assigned to the incremental projects as required by the Commission orders certificating the TIME and Freehold Projects.

Texas Eastern states that the proposed rate changes to the primary firm capacity reservation charges, usage rates and 100% load factor average costs reflected on the revised tariff sheets, for example, for full Access Area Boundary service from the Access Area Zone, East Louisiana, to the three market area zones are as follows:

Zone | Reservation | Usage | 100% Load factor
Market 1 | $0.013/Dth | $0.0001/Dth | $0.0005/Dth
Market 2 | 0.042/Dth | 0.0004/Dth | 0.0018/Dth
Market 3 | 0.062/Dth | 0.0006/Dth | 0.0026/Dth

Texas Eastern states that copies of its filing have been served upon all affected customers of Texas Eastern and interested State commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1546 Filed 7-13-04; 8:45 am]

BILLING CODE 6717-01-P